DEPARTMENT OF COMMERCE

International Trade Administration

[C-570-025; C-533-862]

Polyethylene Terephthalate Resin From the People's Republic of China and India: Continuation of Countervailing Duty Orders

AGENCY: Enforcement and Compliance, International Trade Administration, Department of Commerce.

SUMMARY: As a result of the determinations by the Department of Commerce (Commerce) and the U.S. International Trade Commission (ITC) that revocation of the countervailing duty (CVD) orders on polyethylene terephthalate (PET) resin from the People's Republic of China (China) and India would likely lead to continuation or recurrence of net countervailable subsidies and material injury to an industry in the United States, Commerce is publishing this notice of continuation of the CVD orders.

DATES: Applicable April 11, 2022.

FOR FURTHER INFORMATION CONTACT: Emily Bradshaw or Yang Jin Chun, AD/CVD Operations, Office IV, Enforcement and Compliance, International Trade Administration, U.S. Department of Commerce, 1401 Constitution Avenue NW, Washington, DC 20230; telephone: (202) 482-3896 or (202) 482-5760, respectively.

SUPPLEMENTARY INFORMATION:

Background

On May 6, 2016, Commerce published in the Federal Register the CVD orders on PET resin from China and India.¹ On March 31, 2021, Commerce published the notice of initiation of the sunset reviews of the Orders, pursuant to section 751(c) of the Tariff Act of 1930, as amended (the Act).² Commerce conducted expedited (120-day) sunset reviews of these Orders, pursuant to section 751(c)(3)(B) of the Act and 19 CFR 351.218(e)(1)(ii)(C)(2).

¹ See Certain Polyethylene Terephthalate Resin from India and the People's Republic of China: Countervailing Duty Order (India) and Amended Final Affirmative Countervailing Duty Determination and Countervailing Duty Order (People's Republic of China), 81 FR 27978 (May 6, 2016) (Orders).

² See Initiation of Five-Year (Sunset) Reviews, 86 FR 16701 (March 31, 2021).

As a result of its reviews, Commerce determined, pursuant to sections 751(c)(1) and 752(c) of the Act, that revocation of the Orders would likely lead to continuation or recurrence of countervailable subsidies.³ Commerce, therefore, notified the ITC of the magnitude of the net countervailable subsidy rates likely to prevail should the Orders be revoked.⁴ On April 4, 2022, the ITC published its determination, pursuant to section 751(c) of the Act, that revocation of the Orders would likely lead to continuation or recurrence of material injury to an industry in the United States within a reasonably foreseeable time.⁵

³ See Polyethylene Terephthalate Resin from the People's Republic of China and India: Final Results of the Expedited First Sunset Reviews of the Countervailing Duty Orders, 86 FR 38982 (July 23, 2021) (Final Sunset Reviews), and accompanying Issues and Decision Memorandum (IDM).

⁴ See Final Sunset Reviews IDM at 8.

⁵ See Polyethylene Terephthalate (PET) Resin from Canada, China, India, and Oman, 87 FR 19531 (April 4, 2022).

Scope of the Orders

The merchandise covered by these Orders is polyethylene terephthalate (PET) resin having an intrinsic viscosity of at least 0.70, but not more than 0.88, deciliters per gram. The scope includes blends of virgin PET resin and recycled PET resin containing 50 percent or more virgin PET resin content by weight, provided such blends meet the intrinsic viscosity requirements above. The scope includes all PET resin meeting the above specifications regardless of additives introduced in the manufacturing process. The merchandise subject to these Orders is properly classified under subheading 3907.60.00.30 of the Harmonized Tariff Schedule of the United States (HTSUS). Although the HTSUS subheading is provided for convenience and customs purposes, the written description of the merchandise covered by these Orders is dispositive.⁶

⁶ See Polyethylene Terephthalate Resin from the People's Republic of China and India: Final Results of the Expedited First Sunset Reviews of the Countervailing Duty Orders, 86 FR 38982 (July 23, 2021).

Continuation of the Orders

As a result of the determinations by Commerce and the ITC that revocation of the Orders would likely lead to continuation or recurrence of countervailable subsidies and material injury to an industry in the United States, pursuant to section 751(d)(2) of the Act and 19 CFR 351.218(a), Commerce hereby orders the continuation of the Orders. U.S. Customs and Border Protection will continue to collect CVD cash deposits at the rates in effect at the time of entry for all imports of subject merchandise. The effective date of the continuation of the Orders will be the date of publication in the Federal Register of this notice of continuation. Pursuant to section 751(c)(2) of the Act and 19 CFR 351.218(c)(2), Commerce intends to initiate the next sunset reviews of the Orders no later than 30 days prior to the fifth anniversary of the effective date of continuation.

Notification to Interested Parties

These five-year (sunset) reviews and this notice are in accordance with sections 751(c) and 751(d)(2) of the Act and published pursuant to section 777(i)(1) of the Act and 19 CFR 351.218(f)(4).

Dated: April 5, 2022.
Lisa W. Wang,
Assistant Secretary for Enforcement and Compliance.

[FR Doc. 2022-07721 Filed 4-8-22; 8:45 am]

BILLING CODE 3510-DS-P